OFFICE OF PERSONNEL MANAGEMENT

Extension of Suspension of Applications for Federal Long Term Care Insurance Program (FLTCIP) Coverage

AGENCY: Office of Personnel Management.

ACTION: Notice of extension of suspension of applications for FLTCIP coverage.

SUMMARY: The U.S. Office of Personnel Management (OPM) is announcing an extension of the suspension of applications for FLTCIP coverage that began on December 19, 2022.

DATES: The extension will begin on December 19, 2024. The suspension period will remain in effect for 24 months from this date.

FOR FURTHER INFORMATION CONTACT: You may call 1-800-LTC-FEDS (1-800-582-3337) (TTY: 1-800-843-3557) or visit https://www.ltcfeds.com. For purposes of this Federal Register notice only, the contact at OPM is Cameron Stokes, Senior Policy Analyst, at cameron.stokes@opm.gov or (202) 936-2847.

SUPPLEMENTARY INFORMATION: OPM is extending the current suspension of applications for coverage in FLTCIP in light of ongoing volatility in long term care costs and a diminished insurance market. The original notice was published at 87 FR 69345 (November 18, 2022) and suspended FLTCIP applications for 24 months, as authorized by 5 CFR 875.110. This extension complies with the requirements of § 875.110(d), which requires OPM to issue a Federal Register notice at least 30 days before the end of the suspension period in order to effectuate another suspension not to exceed 24 additional months. As with the current suspension period, no applications for FLTCIP coverage will be accepted during the extension period, and current enrollees may not apply to increase their coverage. The enrollment status or benefit eligibility of current enrollees will not change due to the suspension. For those in a claim status, there is no change to coverage and the claims reimbursement process.

OPM has determined that extending the period of suspension of applications for FLTCIP coverage is in the best interest of the Program. There is ongoing volatility in long term care costs and a diminished insurance market that are undermining the ability to establish benefit offerings with premium rates that reasonably and equitably reflect the cost of the benefits provided, as required under 5 U.S.C. 9003(b)(2).

Authority: 5 U.S.C. 9008; Public Law 116-92, 133 Stat. 1198 (5 U.S.C. 8956 note); 5 CFR 875.110.

Office of Personnel Management.
Kayyonne Marston,
Federal Register Liaison.

[FR Doc. 2024-25943 Filed 11-12-24; 8:45 am]

BILLING CODE 6325-64-P